DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 11, 2015.
Roy E. Wright,
Deputy Associate Administrator for Mitigation, Department of Homeland Security, Federal Emergency Management Agency.

Community | Community map repository address
Jefferson County, Indiana, and Incorporated Areas | Docket No.: FEMA-B-1348
City of Madison | City Hall, Plan Commission Office, 101 West Main Street, Madison, IN 47250.
Town of Brooksburg | County Courthouse, Room 204, 300 East Main Street, Madison, IN 47250.
Town of Hanover | Town Hall, 11 North Madison Avenue, Hanover, IN 47243.
Unincorporated Areas of Jefferson County | County Courthouse, Room 204, 300 East Main Street, Madison, IN 47250.
Jennings County, Indiana, and Incorporated Areas | Docket No.: FEMA-B-1348
City of North Vernon | Jennings County Area Plan Commission, 200 East Brown Street, Vernon, IN 47282.
Town of Vernon | Jennings County Area Plan Commission, 200 East Brown Street, Vernon, IN 47282.
Unincorporated Areas of Jennings County | Jennings County Area Plan Commission, 200 East Brown Street, Vernon, IN 47282.
Wayne County, Indiana, and Incorporated Areas | Docket No.: FEMA-B-1348
City of Richmond | City Hall, 50 North 5th Street, Richmond, IN 47374.
Town of Cambridge City | Town Hall, 127 North Foote Street, Cambridge City, IN 47327.
Town of Centerville | Municipal Building, 204 East Main Street, Centerville, IN 47330.
Town of Fountain City | Town Hall, 312 West Main Street, Fountain City, IN 47341.
Town of Greens Fork | Town Hall, 12 South Water Street, Greens Fork, IN 47345.
Town of Hagerstown | Town Hall, 49 East College Street, Hagerstown, IN 47346.
Town of Milton | Town Hall, 113 East Main Street, Milton, IN 47357.
Town of Mount Auburn | Town Hall, 1113 National Road, Mount Auburn, IN 47327.
Town of Spring Grove | Office of Planning and Zoning, Wayne County Annex Building, 401 East Main Street, Richmond, IN 47374.
Unincorporated Areas of Wayne County | Office of Planning and Zoning, Wayne County Annex Building, 401 East Main Street, Richmond, IN 47374.
Mahnomen County, Minnesota, and Incorporated Areas | Docket No.: FEMA-B-1299
City of Mahnomen | City Hall, 104 West Madison Avenue, Mahnomen, MN 56557.
City of Waubun | City Hall, 1310 First Street, Waubun, MN 56589.
Unincorporated Areas of Mahnomen County | Planning, Zoning, and Sanitation Department, 1440 Highway 200, Mahnomen, MN 56557.
White Earth Band of Minnesota Chippewa Indian | White Earth Tribal Administration, 35500 Eagle View Road, Ogema, MN 56569.
Lawrence County, Ohio, and Incorporated Areas | Docket No.: FEMA-B-1342
Unincorporated Areas of Lawrence County | 111 South 4th Street, Ironton, OH 45638.
Village of South Point | 408 2nd Street West, South Point, OH 45680.
Shelby County, Ohio, and Incorporated Areas | Docket No.: FEMA-B-1342
City of Sidney | 201 West Poplar Street, Sidney, OH 45365.
Unincorporated Areas of Shelby County | 129 East Court Street, Floor 2, Sidney, OH 45365.
Village of Anna | 209 West Main Street, Anna, OH 45302.
Village of Botkins | 210 South Mill Street, Botkins, OH 45306.
Village of Fort Loramie | 14 Elm Street, Fort Loramie, OH 45845.
Village of Jackson Center | 122 East Pike Street, Jackson Center, OH 45334.
Village of Lockington | 129 East Court Street, Floor 2, Sidney, OH 45365.
Village of Port Jefferson | 129 East Court Street, Floor 2, Sidney, OH 45365.
Village of Russia | 232 West Main Street, Russia, OH 45363.

[FR Doc. 2015-05026 Filed 3-4-15; 8:45 am]

BILLING CODE 9110-12-P